ENVIRONMENTAL PROTECTION AGENCY

[FRL-6932-9]

Public Water System Supervision Program Revision for the State of Alabama

AGENCY: Environmental Protection Agency (EPA).

ACTION: Notice of tentative approval.

SUMMARY: Notice is hereby given that the State of Alabama is revising its approved Public Water System Supervision Program. Alabama has adopted drinking water regulations establishing administrative penalty authority, and which revise the definition of a Public Water System. EPA has determined that these revisions are no less stringent than the corresponding federal regulations. Therefore, EPA intends on approving this State program revision.

All interested parties may request a public hearing. A request for a public hearing must be submitted by February 15, 2001, to the Regional Administrator at the address shown below. Frivolous or insubstantial requests for a hearing may be denied by the Regional Administrator. However, if a substantial request for a public hearing is made by February 15, 2001, a public hearing will be held. If no timely and appropriate request for a hearing is received and the Regional Administrator does not elect to hold a hearing on his own motion, this determination shall become final and effective on February 15, 2001. Any request for a public hearing shall include the following information: (1) The name, address, and telephone number of the individual organization, or other entity requesting a hearing; (2) A brief statement of the requesting person's interest in the Regional Administrator's determination and a brief statement of the information that the requesting person intends to submit at such hearing; (3) The signature of the individual making the request, or, if the request is made on behalf of an organization or other entity, the signature of a responsible official of the organization or other entity.

ADDRESSES: All documents relating to this determination are available for inspection between the hours of 8 a.m. and 4:30 p.m., Monday through Friday, at the following offices:

Alabama Department of Environmental Management, Water Division, Water Supply Branch, 1400 Coliseum Boulevard, Montgomery, Alabama 36110-2059; or at the Environmental Protection Agency, Region 4, Drinking Water Section, 61 Forsyth Street SW, Atlanta, Georgia 30303.

FOR FURTHER INFORMATION CONTACT: Tom Plouff, EPA Region 4, Drinking Water Section at the Atlanta address given above or at telephone (404) 562-9476.

SUPPLEMENTARY INFORMATION

Authority: Sections 1401 and 1413 of the Safe Drinking Water Act, as amended (1996), and 40 CFR Parts 141 and 142.

Dated: December 20, 2000.
A. Stanley Meiburg,
Acting Regional Administrator, EPA Region 4.

[FR Doc. 01-1051 Filed 1-12-01; 8:45 am]

BILLING CODE 6560-50-P